NUCLEAR REGULATORY COMMISSION

Advisory Committee on Reactor Safeguards; Meeting of the Joint ACRS Subcommittees on Reliability and Probabilistic Risk Assessment and on Human Factors; Notice of Meeting

The ACRS Subcommittees on Reliability and Probabilistic Risk Assessment (PRA) and on Human Factors will hold a joint meeting on December 15-16, 2005, Room T-2B3, 11545 Rockville Pike, Rockville, Maryland.

The entire meeting will be open to public attendance.

The agenda for the subject meeting shall be as follows:

Thursday, December 15, 2005—8:30 a.m. until the conclusion of business.

Friday, December 16, 2005—8:30 a.m. until the conclusion of business.

The joint subcommittees will examine the current status of human reliability analysis including ATHEANA, SPAR-H, and industry approaches (if available). The Subcommittee will hear presentations by and hold discussions with representatives of the NRC staff and industry regarding this matter. The Subcommittee will gather information, analyze relevant issues and facts, and formulate proposed positions and actions, as appropriate, for deliberation by the full Committee.

Members of the public desiring to provide oral statements and/or written comments should notify the Designated Federal Official, Mr. Eric A. Thornsbury, (Telephone: 301-415-8716) or Dr. John H. Flack, Senior Technical Advisor (Telephone: 301-415-0426) five days prior to the meeting, if possible, so that appropriate arrangements can be made. Electronic recordings will be permitted.

Further information regarding this meeting can be obtained by contacting the Designated Federal Official between 7:30 a.m. and 4:15 p.m. (ET). Persons planning to attend this meeting are urged to contact the above named individuals at least two working days prior to the meeting to be advised of any potential changes to the agenda.

Dated: November 21, 2005.
Michael R. Snodderly,
Acting Branch Chief, ACRS/ACNW.

[FR Doc. 05-23321 Filed 11-25-05; 8:45 am]

BILLING CODE 7590-01-P